DEPARTMENT OF COMMERCE

International Trade Administration

[A-570-147]

Paper File Folders From the People's Republic of China: Postponement of Final Determination in the Less-Than-Fair-Value Investigation

AGENCY: Enforcement and Compliance, International Trade Administration, Department of Commerce.

SUMMARY: The U.S. Department of Commerce (Commerce) is postponing the deadline for issuing the final determination in the less-than-fair-value investigation of paper file folders from the People's Republic of China (China) until September 29, 2023, and is extending the provisional measures from a four-month period to a six-month period.

DATES: Applicable May 31, 2023.

FOR FURTHER INFORMATION CONTACT: Zachariah Hall, AD/CVD Operations VIII, Enforcement and Compliance, International Trade Administration, U.S. Department of Commerce, 1401 Constitution Avenue NW, Washington, DC 20230; telephone: (202) 482-6261.

SUPPLEMENTARY INFORMATION:

Background

Commerce published the notice of initiation of this investigation on November 8, 2022.¹ The period of investigation is April 1, 2022, through September 30, 2022. On May 17, 2023, Commerce preliminarily determined that paper file folders from China are being, or are likely to be, sold in the United States at less than fair value.²

¹ See Paper File Folders from the People's Republic of China, India, and the Socialist Republic of Vietnam: Initiation of Less-Than-Fair-Value Investigations, 87 FR 67441 (November 8, 2022) (Initiation Notice).

² See Paper File Folders from the People's Republic of China: Preliminary Affirmative Determination of Sales at Less Than Fair Value, 88 FR 31485 (May 17, 2023) (Preliminary Determination).

Postponement of Final Determination and Extension of Provisional Measures

Section 735(a)(2) of the Tariff Act of 1930, as amended (the Act), and 19 CFR 351.210(b)(2) provide that a final determination may be postponed until not later than 135 days after the date of the publication of the preliminary determination if, in the event of an affirmative preliminary determination, a request for such postponement is made by exporters who account for a significant proportion of exports of the subject merchandise, or in the event of a negative preliminary determination, a request for such postponement is made by the petitioner.³ Pursuant to 19 CFR 351.210(e)(2), Commerce requires that requests by respondents for postponement of a final antidumping determination be accompanied by a request for extension of provisional measures from a four-month period to a period not more than six months in duration.

³ The petitioner is the Coalition of Domestic Folder Manufacturers. The members of the Coalition of Domestic Folder Manufacturers are: Smead Manufacturing Company, Inc.; and TOPS Products LLC.

On May 12, 2023, pursuant to 19 CFR 351.210(e), mandatory respondents CRE8 Direct (Ningbo) Co., Ltd. (CRE8 Direct) and Ningbo Guangbo Import & Export Co., Ltd. (Guangbo) requested that Commerce postpone the final determination and that provisional measures be extended to a period not to exceed six months.⁴ In accordance with section 735(a)(2)(A) of the Act and 19 CFR 351.210(b)(2)(ii), because: (1) the preliminary determination is affirmative; (2) the requesting exporters account for a significant proportion of exports of the subject merchandise; and (3) no compelling reasons for denial exist, Commerce is postponing the final determination and extending the provisional measures from a four-month period to a period not greater than six months. Accordingly, Commerce's final determination will be issued no later than 135 days after the date of publication of the Preliminary Determination.

⁴ See CRE8 Direct and Guangbo's Letter, “Request to Extend Final Determination,” dated May 12, 2023.

Notification to Interested Parties

This notice is issued and published pursuant to section 735(a)(2) of the Act and 19 CFR 351.210(g).

Dated: May 24, 2023.
Abdelali Elouaradia,
Deputy Assistant Secretary for Enforcement and Compliance.

[FR Doc. 2023-11474 Filed 5-30-23; 8:45 am]

BILLING CODE 3510-DS-P